DEPARTMENT OF THE INTERIOR

Bureau of Reclamation

Delta-Mendota Canal/California Aqueduct Intertie, Alameda County, CA

AGENCY: Bureau of Reclamation, Department of the Interior.

ACTION: Notice of availability of the Final Environmental Impact Statement (Final EIS).

SUMMARY: The Bureau of Reclamation, as the National Environmental Policy Act Federal lead agency, has prepared the Delta-Mendota Canal/California Aqueduct Intertie (Intertie) Final EIS. The Intertie is a proposed action in the August 2000 CALFED Bay-Delta Program Programmatic Record of Decision. The Intertie Final EIS evaluates constructing and operating a pipeline connecting the Delta-Mendota Canal (DMC) and the California Aqueduct. The purpose of the Proposed Action is to improve the DMC conveyance conditions that restrict the Central Valley Project's (CVP) Jones Pumping Plant to less than its authorized pumping capacity of 4,600 cubic feet per second.

A notice of availability of the Draft EIS was published in the Federal Register on July 14, 2009 (74 FR 34031). The written comment period on the Draft EIS ended on August 31, 2009. The Final EIS contains responses to all comments received and reflects comments and any additional information received during the review period.

DATES: Reclamation will not make a decision on the Proposed Action until at least 30 days after release of the Final EIS. After the 30-day waiting period, Reclamation will complete a Record of Decision (ROD). The ROD will state the action that will be implemented and will discuss all the factors leading to that decision.

ADDRESSES: Copies of the Final EIS may be requested from Mr. Louis Moore, Bureau of Reclamation, 2800 Cottage Way, Sacramento, CA 95825; by calling 916-978-5106 (TDD 916-978-5608); or by e-mailing wmoore@usbr.gov. The Final EIS is also accessible from the following Web site: http://www.usbr.gov/mp/intertie/docs/index.html.

FOR FURTHER INFORMATION CONTACT: Mr. Louis Moore at the phone number or e-mail address above.

SUPPLEMENTARY INFORMATION: The Final EIS documents the direct, indirect, and cumulative effects to the physical, biological, and socioeconomic environment that may result from the construction and operation of the Intertie facilities.

The Intertie Final EIS evaluates constructing and operating a pipeline connecting between the DMC and the California Aqueduct. The purpose of the Proposed Action is to improve the DMC conveyance conditions that restrict the CVP Jones Pumping Plant to less than its authorized pumping capacity of 4,600 cubic feet per second. The Final EIS evaluates four alternatives, including the No Action, Proposed Action (alternative previously analyzed in the Environmental Assessment), an alternative location of the same design, and a temporary structure. The Intertie would be located in an unincorporated area of the San Joaquin Valley in Alameda County, west of the city of Tracy, in a rural agricultural area that is owned by the State and Federal governments. The primary study area includes the Intertie alternative facilities and the associated transmission lines connecting to the Tracy substation, which is located at DMC Milepost 3.5.

Public hearings were held on August 4, 2009 in Sacramento, California and on August 5, 2009 in Stockton, California.

Copies of the Final EIS are available for public review at the following locations:

• Bureau of Reclamation, Mid-Pacific Region, Regional Library, 2800 Cottage Way, Sacramento, CA 95825.

• California Bay-Delta Authority, 650 Capitol Mall, 5th Floor, Sacramento, CA 95812.

• Bureau of Reclamation, Denver Office Library, Building 67, Room 167, Denver Federal Center, 6th and Kipling, Denver, CO 80225.

• Natural Resources Library, U.S. Department of the Interior, 1849 C Street NW., Main Interior Building, Washington, DC 20240-0001.

Before including your name, address, phone number, e-mail address, or other personal identifying information in any correspondence, you should be aware that your entire correspondence, including your personal identifying information, may be made publicly available at any time. While you can ask us in your correspondence to withhold your personal identifying information from public review, we cannot guarantee that we will be able to do so.

Dated: October 30, 2009.
Pablo R. Arroyave,
Deputy Regional Director, Mid-Pacific Region.

[FR Doc. E9-28138 Filed 11-23-09; 8:45 am]

BILLING CODE 4310-MN-P